DEPARTMENT OF THE INTERIOR

National Park Service

[NPS-MWR-EFMO-10830; PPMWMWROW2/PPMPSAS1Y.YP0000]

Notice of Availability of Final General Management Plan/Environmental Impact Statement for Effigy Mounds National Monument, Iowa

AGENCY: National Park Service, Interior.

ACTION: Notice of Availability.

SUMMARY: The National Park Service (NPS) announces the availability of the Final General Management Plan/Environmental Impact Statement (GMP/EIS) for Effigy Mounds National Monument (EFMO), Iowa.

DATES: The Final GMP/EIS will remain available for public review for 30 days following the publishing of the Notice of Availability in the Federal Register by the Environmental Protection Agency.

ADDRESSES: Copies of the Final GMP/EIS are available to the public by request by writing to the Superintendent, Effigy Mounds National Monument, 151 Highway 76, Harpers Ferry, Iowa 52146. The document is available on the internet at the NPS Planning, Environment, and Public Comment Web site at http://www.parkplanning.nps.gov/indu.efmo.

FOR FURTHER INFORMATION CONTACT: Superintendent Jim Nepstad, Effigy Mounds National Monument, 151 Highway 76, Harpers Ferry, Iowa, at (563) 873-3491.

SUPPLEMENTARY INFORMATION: We, the NPS, have developed this GMP/EIS to guide the management of EFMO for the next 25 years. The Draft GMP/EIS considered three draft conceptual alternatives—a no-action and two action alternatives, including the NPS preferred alternative. The Draft GMP/EIS assessed impacts to cultural resources (archeological, landscapes, ethnographic resources, and museum collections), to natural resources (soils, wild and scenic rivers, vegetation, fish and wildlife, special status species, and visual resources/viewsheds), to visitor use and experience, to the socioeconomic environment, and to EFMO operations and facilities.

The preferred alternative in both the Draft GMP/EIS and Final GMP/EIS focuses on providing an enhanced visitor experience with increased understanding of EFMO while protecting and preserving natural and cultural resources. The desired visitor experience would be to make personal connections to EFMO's tangible resources through understanding of the significance of the (pre-European contact) American Indian moundbuilding story and its relationship to the heritage of the region. The landscape and visitor facilities would support a contemplative atmosphere with opportunities for the public to spend time reflecting on the lives and legacy of the moundbuilders and the sacred nature of the site today. The natural setting created by preserving or restoring landscapes would provide a connection between the moundbuilding cultures and the environment that shaped their lives and beliefs.

New construction of facilities and trails at EFMO would be minimal under the preferred alternative. Using the direction provided in this plan, specific locations of trails in the Heritage Addition would be identified in a subsequent trail development plan. This plan envisions a small visitor contact station at the Sny Magill unit within an expanded boundary area. Once this land is acquired, subsequent site development planning would determine location and design of the station as well as of redesigned trails for Sny Magill.

Dated: July 18, 2012.
Michael T. Reynolds,
Regional Director, Midwest Region.

This document was received by the Office of the Federal Register on March 7, 2013.

[FR Doc. 2013-05610 Filed 3-11-13; 8:45 am]

BILLING CODE 4310-MA-P